DEPARTMENT OF COMMERCE

National Oceanic and Atmospheric Administration

[I.D. 090605C]

Climate Change Science Program (CCSP) Product Development Committee (CPDC) for Synthesis and Assessment Product 1.1

AGENCY: Climate Change Science Program (CCSP), National Oceanic and Atmospheric Administration (NOAA), Commerce.

ACTION: Notice; establishment of Climate Change Science Program (CCSP) Product Development Committee (CPDC) for Synthesis and Assessment Product 1.1 (CPDC-S&A 1.1).

SUMMARY: Establishment of the CPDC-S&A 1.1 will result in advice to the Secretary, through the Under Secretary of Commerce for Oceans and Atmosphere, on CCSP Topic 1.1: “Temperature trends in the lower atmosphere—steps for understanding and reconciling differences.” This information will be used by NOAA to develop a final product in accordance with the Guidelines for Producing the CCSP Synthesis and Assessment Products.

ADDRESSES: Interested persons are invited to submit comments regarding the establishment of this committee to Christopher D. Miller, Program Manager, NOAA/OAR/Office of Global Programs Climate Change Data and Detection Program Element, 1100 Wayne Avenue, Suite 1210, Silver Spring, Maryland 20910; telephone 301-427-2376, e-mail: Christopher.D.Miller@noaa.gov.

FOR FURTHER INFORMATION CONTACT: Mary M. Glackin; telephone 301/713-1632.

SUPPLEMENTARY INFORMATION: In accordance with the provisions of the Federal Advisory Committee Act, 5 U.S.C. App. 2, and the General Services Administration (GSA) rule of Federal Advisory Committee Management, 41 CFR part 102-3, and after consultation with GSA, the Secretary of Commerce has determined that the establishment of the National Oceanic and Atmospheric Administration (NOAA) Climate Change Science Program (CCSP) Product Development Committee (CPDC) for Synthesis and Assessment Product 1.1 (CPDC-S&A 1.1) is in the public interest, in connection with the performance of duties imposed on the Department by law. The CPDC-S&A 1.1 will consist of no more than 30 members to be appointed by the Under Secretary to assure a balanced representation among preeminent scientists, educators, and experts reflecting the full scope of the scientific issues addressed in CCSP Synthesis and Assessment Product 1.1. The CPDC-S&A 1.1 will function solely as an advisory body, and in compliance with the provisions of the Federal Advisory Committee Act. Its charter will be filed under the Act, 15 days from the date of publication of this notice in the Federal Register.

Dated: September 6, 2005.
Mary M. Glackin,
Assistant Administrator for Program Planning and Integration.

[FR Doc. 05-17942 Filed 9-8-05; 8:45 am]

BILLING CODE 3510-NW-P